DEPARTMENT OF THE INTERIOR

Bureau of Land Management

DEPARTMENT OF AGRICULTURE

U.S. Forest Service

Notice of Call for Nominations for Appointment of Primary and Alternate Representatives for the City of Palm Desert to the Santa Rosa and San Jacinto Mountains National Monument Advisory Committee

AGENCY: Bureau of Land Management, Interior; and U.S. Forest Service, Agriculture.

ACTION: Notice of call for nominations.

SUMMARY: This notice constitutes an open call to the public to submit nomination applications for one primary representative and one alternate representative for the City of Palm Desert, California, to the Santa Rosa and San Jacinto Mountains National Monument Advisory Committee. Terms will begin on the date of appointment and will expire on December 16, 2011.

DATES: Nomination applications must be submitted to the address listed below no later than January 29, 2010.

ADDRESSES: Santa Rosa and San Jacinto Mountains National Monument Office, Attn: National Monument Manager, Advisory Committee Nomination Application, 1201 Bird Center Drive, Palm Springs, California 92262.

FOR FURTHER INFORMATION CONTACT: Jim Foote, National Monument Manager, Santa Rosa and San Jacinto Mountains National Monument, telephone (760) 833-7136; e-mail jfoote@ca.blm.gov.

SUPPLEMENTARY INFORMATION: In accordance with the Santa Rosa and San Jacinto Mountains National Monument Act of 2000 (Pub. L. 106-351), the Secretary of the Interior and the Secretary of Agriculture (Secretaries) have jointly established an advisory committee for the Santa Rosa and San Jacinto Mountains National Monument under the provisions of the Federal Advisory Committee Act. The purpose of the National Monument Advisory Committee (MAC) is to advise the Secretaries with respect to implementation of the National Monument Management Plan.

The MAC holds public meetings at least once per year. The Designated Federal Officer (DFO), or his/her designee, may convene additional meetings as necessary. All MAC members are volunteers serving without pay. Members of the MAC may be reappointed upon expiration of the member's current term.

All applicants must be citizens of the United States. Members are appointed by the Secretary of the Interior with concurrence by the Secretary of Agriculture. Applicants must be qualified through education, training, knowledge, or experience to give informed advice regarding an industry, discipline, or interest to be represented.

There is no limit to the number of nomination applications which may be submitted for the City of Palm Desert positions. Any individual may nominate himself or herself for appointment. Completed nomination applications should include letters of reference and/or recommendations from the City of Palm Desert, and any other information explaining the nominee's qualifications (e.g., resume, curriculum vitae).

Nomination application packages are available at the address listed in the “ADDRESSES” section, through the Santa Rosa and San Jacinto Mountains National Monument Web site at http://www.blm.gov/ca/st/en/fo/palmsprings/santarosa/mac_nominations.html, via telephone request at (760) 833-7100, or through an e-mail request to jfoote@ca.blm.gov.

Each application package includes forms from the U.S. Department of the Interior and U.S. Department of Agriculture. All submitted nomination applications become the property of the Department of the Interior, Bureau of Land Management, and Santa Rosa and San Jacinto Mountains National Monument, and will not be returned. Nomination applications can only be applied to the current open public call for nominations.

John R. Kalish,
Field Manager, Palm Springs-South Coast Field Office, California Desert District, Bureau of Land Management.
Laurie Rosenthal,
District Ranger, San Jacinto Ranger District, San Bernardino National Forest, U.S. Forest Service.

[FR Doc. 2010-551 Filed 1-13-10; 8:45 am]

BILLING CODE 3410-11-P